DEPARTMENT OF ENERGY

Federal Energy Regulatory Commission

[Beverly Lock and Dam Water Power, Project No. 13404-002; Devola Lock and Dam Water Power Project, Project No. 13405-002; Malta/McConnelsville Lock and Dam Water Power Project, Project No. 13406-002; Lowell Lock and Dam Water Power Project, Project No. 13407-002; Philo Lock and Dam Water Power Project, Project No. 13408-002; Rokeby Lock and Dam Water Power Project, Project No. 13411-002]

Notice of Availability of Environmental Assessment

In accordance with the National Environmental Policy Act of 1969 and the Federal Energy Regulatory Commission's (Commission or FERC) regulations, 18 Code of Federal Regulations Part 380, the Office of Energy Projects has reviewed the applications for original licenses for the Beverly Lock and Dam Water Power Project (FERC Project No. 13404-002), Devola Lock and Dam Water Power Project (FERC Project No. 13405-002), Malta/McConnelsville Lock and Dam Water Power Project (FERC Project No. 13406-002), Lowell Lock and Dam Water Power Project (FERC Project No. 13407-002), Philo Lock and Dam Water Power Project (FERC Project No. 13408-002), and Rokeby Lock and Dam Water Power Project (FERC Project No. 13411-002). The proposed projects would be located on the Muskingum River in Ohio. The Philo Lock and Dam Water Power Project would be located north of Philo, Ohio, in Muskingum County at river mile (RM) 68.3. The Rokeby Lock and Dam Water Power Project would be located in Rokeby, Ohio, in Morgan and Muskingum Counties at RM 57.4. The Malta/McConnelsville Lock and Dam Water Power Project would be located in McConnelsville, Ohio, in Morgan County at RM 49.4. The Beverly Lock and Dam Water Power Project would be located upstream of Beverly, Ohio, in Washington and Morgan Counties at RM 25.1. The Lowell Lock and Dam Water Power Project would be located west of Lowell, Ohio, in Washington County at RM 14.2. The Devola Lock and Dam Water Power Project would be located near Devola, Ohio, in Washington County at RM 5.8. The projects would be located at existing dams owned by the Ohio Department of Natural Resources. The projects would not occupy federal land.

Staff prepared a multi-project environmental assessment (EA) in cooperation with the U.S. Army Corps of Engineers, which analyzes the potential environmental effects of licensing the six projects, and concludes that licensing the projects, with appropriate environmental protection measures, would not constitute a major federal action that would significantly affect the quality of the human environment.

A copy of the EA is available for review at the Commission in the Public Reference Room or may be viewed on the Commission's Web site at www.ferc.gov using the “eLibrary” link. Enter the docket number, excluding the last three digits, in the docket number field to access the document. For assistance, contact FERC Online Support at FERCOnlineSupport@ferc.gov or toll-free at 1-866-208-3676, or for TTY, (202) 502-8659.

You may also register online at http://www.ferc.gov/docs-filing/esubscription.asp to be notified via email of new filings and issuances related to these or other pending projects. For assistance, contact FERC Online Support.

Any comments should be filed within 30 days from the date of this notice. The Commission strongly encourages electronic filing. Please file comments using the Commission's eFiling system at http://www.ferc.gov/docs-filing/efiling.asp. For assistance, please contact FERC Online Support at FERCOnlineSupport@ferc.gov or toll-free at 1-866-208-3676, or for TTY, 202-502-8659. In lieu of electronic filing, please send a paper copy to: Secretary, Federal Energy Regulatory Commission, 888 First Street NE., Washington, DC 20426. The first page of any filing should include: “Beverly Lock and Dam Water Power Project No. 13404-002, Devola Lock and Dam Water Power Project No. 13405-002, Malta/McConnelsville Lock and Dam Water Power Project No. 13406-002, Lowell Lock and Dam Water Power Project No. 13407-002, Philo Lock and Dam Water Power Project No. 13408-002, and/or Rokeby Lock and Dam Water Power Project No. 13411-002” as appropriate, to the first page of any comments.

For further information, contact Aaron Liberty at (202) 502-6862, or by email at aaron.liberty@ferc.gov.

Dated: August 27, 2015.
Kimberly D. Bose,
Secretary.

[FR Doc. 2015-21714 Filed 9-1-15; 8:45 am]

BILLING CODE 6717-01-P